DEPARTMENT OF COMMERCE

National Institute of Standards and Technology

National Conference on Weights and Measures 2022 Interim Meeting

AGENCY: National Institute of Standards and Technology, Commerce.

ACTION: Notice.

SUMMARY: The 2022 Interim Meeting of the National Conference on Weights and Measures (NCWM) will be held using a virtual meeting platform and in-person at the Westin Tampa Waterside Hotel, Tampa Florida, from Sunday, January 9 through Wednesday, January 12, 2022. This notice contains information about significant items on the NCWM Committee agendas but does not include all agenda items. As a result, the items are not consecutively numbered.

DATES: The 2022 Interim Meeting will be held from Sunday, January 9, through Wednesday, January 12, 2022. The meeting schedule will be available on the NCWM website at www.ncwm.com.

ADDRESSES: This meeting will be held using a virtual meeting platform and in-person at the Westin Tampa Waterside Hotel, Tampa Florida.

FOR FURTHER INFORMATION CONTACT: Dr. Katrice Lippa, NIST, Office of Weights and Measures, 100 Bureau Drive, Stop 2600, Gaithersburg, MD 20899-2600. You may also contact Dr. Lippa at (301) 975-3116 or by email at katrice.lippa@nist.gov. The meeting is open to the public, but a paid registration is required. Please see the NCWM website (www.ncwm.com) to view the meeting agendas, registration forms, and hotel reservation information.

SUPPLEMENTARY INFORMATION: Publication of this notice on the NCWM's behalf is undertaken as a public service and does not itself constitute an endorsement by the National Institute of Standards and Technology (NIST) of the content of the notice. NIST participates in the NCWM as an NCWM member and pursuant to 15 U.S.C. 272(b)(10) and (c)(4) and in accordance with Federal policy (e.g., OMB Circular A-119 “Federal Participation in the Development and Use of Voluntary Consensus Standards”).

The NCWM is an organization of weights and measures officials of the states, counties, and cities of the United States, and representatives from the private sector and federal regulatory agencies. These meetings can bring these government officials together with representatives of business, industry, trade associations, and consumer organizations to discuss proposed laws and regulations and other subjects related to the field of weights and measures technology, administration, and enforcement. NIST hosted the first meeting of the NCWM in 1905. Since then, the conference has provided a model of cooperation between Federal, State, and local governments and the private sector. NIST participates to encourage cooperation between federal agencies and the states in the development of legal metrology requirements. NIST also promotes uniformity in state laws, regulations, and testing procedures used in the regulatory control of commercial weighing and measuring devices, packaged goods, and for other trade and commerce issues.

The NCWM has established multiple committees, task groups, and other working bodies to address legal metrology issues of interest to regulatory officials, industry, consumers, and others. The following are brief descriptions of some of the significant agenda items that will be considered by some of the NCWM Committees at the NCWM Interim Meeting. Comments will be taken on these and other issues during several public comment sessions. At this stage, the items are proposals.

This meeting also includes work sessions in which the Committees may accept comments, and where recommendations will be developed for consideration and possible adoption at the NCWM 2022, 107th Annual Meeting. The Committees may withdraw or carryover items that need additional development.

These notices are intended to make interested parties aware of these development projects and to make them aware that reports on the status of the project will be given at the Interim Meeting. The notices are also presented to invite the participation of manufacturers, experts, consumers, users, and others who may be interested in these efforts.

The following are brief descriptions of some of the significant agenda items that will be considered at the 2022 Interim Meeting. Comments will be taken on these and other recommendations to amend NIST Handbook 44, “Specifications, Tolerances, and other Technical Requirements for Weighing and Measuring Devices” (NIST Handbook 44 or HB 44), NIST Handbook 130, “Uniform Laws and Regulations in the areas of Legal Metrology and Fuel Quality” (NIST Handbook 130 or HB 130), and NIST Handbook 133, “Checking the Net Contents of Packaged Goods” (NIST Handbook 133 or HB 133). These NIST Handbooks are regularly adopted by reference or through the administrative procedures of all the states.

NCWM S&T Committee (S&T 2022 Interim Meeting)

The Specifications and Tolerances Committee (S&T Committee) will consider proposed amendments to NIST Handbook 44. Those items address weighing and measuring devices used in commercial applications, that is, devices that are used to buy from or sell to the public or used for determining the quantity of products or services sold among businesses.

Item Block 2 (B2): Define True Value for Use in Error Calculations

BLK-2: (SCL-20.3, SCL-20.4, SCL-20.5, SCL-20.6, SCL-20.7, and SCL-20.8)

The S&T Committee will further consider a proposal that has been designated as an “Informational” item meaning that the committee wants to allow more time for review by stakeholders and possibly further development to address concerns. This “block” proposal includes six individual items related to the application of NIST Handbook 44 requirements based on the values of a scale's verification scale division “e” or the minimum scale division “d”. Adoption of this proposal would have a significant impact on scales, particularly in cases where the values of “e” and “d” are not equal.

Item Block 4 (B4): Electronically Captured Tickets or Receipts

The S&T Committee will further consider a proposal to allow for the expanded use of electronically captured tickets and receipts by amending NIST HB 44 Sections 1.10. General, 3.30. LMD, 3.31. VTM, 3.32. LPG, 3.34. CLM, 3.37. MFM, 3.38. CDL, 3.39. HGM, 3.35. Milk Meters, and the definition of “recorded representation” in Appendix D, Definitions. The committee amended this carry-over block of items during the 2020 Interim Meeting based on comments it received expressing a continued need for printed tickets. As a result, the proposal now references NIST HB 44 paragraph G-S.5.6. in various specific codes. At the 2021 NCWM Annual Meeting, the S&T Committee designated this “block” proposal as “developing” for further comment and consideration.

LMD—Liquid Measuring Devices

LMD-21.1: Table S.2.2. Categories of Device Method of Sealing

The S&T Committee will further consider a proposal to amend NIST HB 44 Section 3.30. Liquid-Measuring Devices to permit the use of an electronic log, in lieu of a printed copy for devices with Category 3 sealing. The current “Category 3” sealing requirements in HB 44 Liquid-Measuring Devices Code Section 3.30. specify that a printed copy of an event logger must be available on demand through the device or through another on-site device and that the information may also be available electronically. The new proposal would amend the language in Table S.2.2. “Categories of Device and Methods of Sealing” to permit either a printed or electronic form of the event logger be made available. This item, LMD-21.1 was previously a “block” item with LMD 20.1. Both items were similar proposals, so the submitters of both items agreed to withdraw LMD-20.1 and further develop LMD 21.1. At the 2021 NCWM Interim Meeting, the committee agreed to withdraw item LMD-20.1 from the previous block of items and designated LMD-21.1 as a developing item so that the submitters of both items could work together to further develop item LMD-21.1. At the 2021 NCWM Annual Meeting the committee agreed to a developing status for this item for further comments and consideration.

VTM—Vehicle Tank Meters

VTM-18.1: S.3.1.1. Means for Clearing the Discharge Hose and UR.2.6. Clearing the Discharge Hose

The S&T Committee will further consider this item, which proposes to provide specifications and user requirements for manifold flush systems designed to eliminate product contamination on VTMs used for multiple products. This proposal would add specifications on the design of VTMs under S.3.1.1. “Means for Clearing the Discharge Hose.” and add a new user requirement UR.2.6. “Clearing the Discharge Hose.” During open hearings of previous NCWM meetings, comments were heard about the design of any system to clear the discharge hose of a product prior to the delivery of a subsequent product which could provide opportunities to fraudulently use this type of system. At the 2021 NCWM Annual Meeting the committee agreed to keep this item developing for further comments and consideration.

EVF—Electric Vehicle Fueling Systems

EVF-20.1: S.1.3.2. EVSE Value of the Smallest Unit

The S&T Committee will further consider a proposal that would specify the maximum value of the indicated and/or recorded electrical energy unit used in an EVSE (Electric Vehicle Supply Equipment). This proposal would reduce (by a factor of 10) the current specified values of these units. The current maximum values of 0.005 MJ and 0.001 kWh would be changed to 0.0005 MJ and 0.0001 kWh respectively. The submitters contend that testing of these systems would be expedited through these changes and reduce the amount of time necessary to complete official tests. During the 2021 NCWM Annual Meeting, additional changes were proposed to the Electric Vehicle Fueling System Code to add a new paragraph S.1.3.X to address how the value of the quantity unit shall be expressed and at this meeting the committee recommended a developing status for this item for further comments and consideration.

GMA—Grain Moisture Meters 5.56. (A)

GMA-19.1: Table T.2.1. Acceptance and Maintenance Tolerances Air Oven Method for All Grains and Oil Seeds

The S&T Committee will further consider a proposal that would reduce the tolerances for the air oven reference method in the Grain Moisture Meter Code. The proposed new tolerances would apply to all types of grains and oil seeds. This item is a carry-over proposal from 2019 and would replace the contents of Table T.2.1. with new criteria. Additional inspection data will be collected and reviewed to assess whether or not the proposed changes to the tolerances are appropriate. At the 2021 Annual Meeting the Committee recommended a developing status for this item to review the results of additional data.

TMS/TNMS—Taxi Meters and Transportation Network Measurement Systems

Item BLOCK 3 (B3): Tolerances for Distance Testing in Taximeters and Transportation Network Systems.

The S&T Committee will further consider changes included in this block affecting the HB 44 Taximeters Code (Section 5.54.) and the Transportation Network Measurement Systems (TNMS) Code (Section 5.60.) that would amend the value of tolerances allowed for distance tests. The changes proposed in this item would change the Taximeters Code requirement T.1.1. “On Distance Tests” by increasing that tolerance to 2.5% when the test exceeds one mile. The change to the TNMS Code affects requirement T.1.1. “Distance Tests” by reducing the tolerance allowed on overregistration under T.1.1.(a) from the current 2.5% to 1% when the test does not exceed one mile and would increase the tolerance for underregistration in T.1.1.(b) from 2.5% to 4%. These changes if adopted would align the tolerances values for distance tests allowed for taximeters and TNMS. At the 2021 NCWM Annual Meeting it was noted that these items were being discussed with the USNWG and the Committee agreed to a developing status for this item for further comment and consideration.

NCWM L&R Committee

NIST Handbook 130 and NIST Handbook 133

The following items are proposals for NIST HB 130 Uniform Method of Sale (MOS) and the Uniform Fuels and Automotive Lubricants Regulation (FLR):

Item Block 1 (B1)—

NIST HB 130, PAL-19.1. UPLR, Sec. 2.8. Multiunit Package. NET-19.2. NIST HB 133 Modify “scope” for Chapters 2 through 4, add a note following Sections 2.3.7.1. and 2.7.3., NET-19.3. NIST HB 133 create a Chapter 5. Specialized Test Procedures. The L&R Committee will also be addressing a proposal to include adoption of a test procedure for the total quantity declaration on multiunit or variety packages. In addition, in NIST HB 130, Uniform Packaging and Labeling Regulation, the proposal would clarify Section 2.8. Multiunit.

Item MOS-22.4. Section 2.16. Compressed or Liquefied Gasses in Refillable Cylinders

The L&R Committee will consider a proposal to modify the existing language for the method of sale of Compressed or Liquefied Gases in Refillable Cylinders. The proposed amendments are being considered so that current HB 130 requirements are not in conflict between the tare weight and other labeling requirements for compressed gas cylinders in the Method of Sale of Commodities Regulation and similar Federal regulations published by the U.S. DOT.

Item MOS-20.5 Section 2.21 Liquefied Petroleum Gas

The L&R Committee will consider a proposal to modify the existing language for the method of sale of Liquefied Petroleum Gas. Consider changes to the existing language that references a value of “15.6 °C” for temperature determinations in metric units. According to the current industry practice for sales of petroleum products, the reference temperature for sales in metric are based on 15 °C rather than the exact conversion from 60 °F (which is 15.6 °C). Thus, the temperature reference in metric should be 15 °C. This will also add language for metered sales with a maximum capacity equal to or greater than 20 gal/min will have a metering system that automatic temperature compensates. For metering system with a maximum capacity less than 20 gal/min. Effective January 2030, all metered sales, shall be accomplished using a metering system that automatic temperature compensates.

Item MOS 22.3. Section 2.4. Fireplace and Stove Wood

The Committee will consider a proposal to modify the language to clarify the language as to how compressed firewood bricks shall be sold. This also clarifies the terms for plural and singular representation for the units.

Item 22.1. Uniform Regulation for E-commerce Products

The L&R Committee will consider a proposal to add a new regulation into HB 130 for Uniform Labeling for E-commerce for consumer commodities and non-consumer commodities. This regulation will provide guidance to those state that adopt such a regulation. It also provides for required information that shall be provided when the product is delivered. This regulation would also lay out the terms that shall appear on an e-commerce website.

Item Block 3 Cannabis

B3: PALS-22.1. Section XX. Cannabis and Cannabis-Containing Products. The Committee will consider a proposal to establish definitions within HB 130 Packaging and Labeling Requirements for Cannabis and Cannabis containing products. In addition, PAL-22.2 Section 10.XX. Cannabis and Cannabis-Containing Products. will establish labeling requirements. B3: NET-22.1. Section 1.XX. Cannabis and Cannabis-Containing Products and 2.XX. Cannabis and Cannabis-Containing Products. provides for a 3% moisture allowance for Cannabis containing more than 0.3% total Delta-9 THC or containing 0.3% less total Delta-9 THC (hemp). B3: MOS-22.2. HB 130 Section 1.XX. and Section 2.XX. Cannabis and Cannabis-Containing Products. The Committee will consider a proposal to amend these two sections to include language for a method of sale for Cannabis. Included within this proposal is also a water activity limit of 0.6 ± −0.5, when unprocessed Cannabis is sold or transferred.

Alicia Chambers,
NIST Executive Secretariat.

[FR Doc. 2022-00036 Filed 1-5-22; 8:45 am]

BILLING CODE 3510-13-P